DEPARTMENT OF ENERGY

Federal Energy Regulatory Commission

Combined Notice of Filings #1

Take notice that the Commission received the following electric corporate filings:

Docket Numbers: EC13-17-000.

Applicants: Midland Cogeneration Venture Limited Partnership, Sparta Acquisition Corporation.

Description: Application for Authorization Under Section 203 of the Federal Power Act and Request for Waivers, Confidential Treatment, Expedited Action and Shortened Comment Period of Midland Cogeneration Venture LP and Sparta Acquisition Corporation.

Filed Date: 10/16/12.

Accession Number: 20121016-5144.

Comments Due: 5 p.m. ET 11/6/12.

Take notice that the Commission received the following electric rate filings:

Docket Numbers: ER12-678-003.

Applicants: Midwest Independent Transmission System Operator, Inc.

Description: VLR Compliance Amendment to be effective 9/1/2012.

Filed Date: 10/16/12.

Accession Number: 20121016-5117.

Comments Due: 5 p.m. ET 11/6/12.

Docket Numbers: ER13-101-001.

Applicants: Midwest Independent Transmission System Operator, Inc.

Description: ATCLLC Amendment to OATT Order 1000 Compliance to be effective 10/11/2012.

Filed Date: 10/16/12.

Accession Number: 20121016-5116.

Comments Due: 5 p.m. ET 11/9/12.

Docket Numbers: ER13-142-000.

Applicants: Georgia-Pacific Consumer Products LP.

Description: Georgia-Pacific Entities to be effective 10/17/2012.

Filed Date: 10/16/12.

Accession Number: 20121016-5104.

Comments Due: 5 p.m. ET 11/6/12.

Docket Numbers: ER13-143-000.

Applicants: Georgia-Pacific LLC, Crossett.

Description: Georgia-Pacific Entities to be effective 10/17/2012.

Filed Date: 10/16/12.

Accession Number: 20121016-5106.

Comments Due: 5 p.m. ET 11/6/12.

Docket Numbers: ER13-144-000.

Applicants: Georgia-Pacific Monticello LLC.

Description: Georgia-Pacific Entities to be effective 10/17/2012.

Filed Date: 10/16/12.

Accession Number: 20121016-5108.

Comments Due: 5 p.m. ET 11/6/12.

Docket Numbers: ER13-145-000.

Applicants: Leaf River Cellulose, LLC.

Description: Georgia-Pacific Entities to be effective 10/17/2012.

Filed Date: 10/16/12.

Accession Number: 20121016-5109.

Comments Due: 5 p.m. ET 11/6/12.

Docket Numbers: ER13-146-000.

Applicants: Georgia-Pacific Toledo LLC.

Description: Georgia-Pacific Entities to be effective 10/17/2012.

Filed Date: 10/16/12.

Accession Number: 20121016-5110.

Comments Due: 5 p.m. ET 11/6/12.

Docket Numbers: ER13-147-000

Applicants: Georgia-Pacific Consumer Products LP.

Description: Georgia-Pacific Entities to be effective 10/17/2012.

Filed Date: 10/16/12.

Accession Number: 20121016-5111.

Comments Due: 5 p.m. ET 11/6/12.

Docket Numbers: ER13-148-000.

Applicants: Georgia-Pacific Consumer Products LP.

Description: Georgia-Pacific Entities to be effective 10/17/2012.

Filed Date: 10/16/12.

Accession Number: 20121016-5112.

Comments Due: 5 p.m. ET 11/6/12.

Docket Numbers: ER13-149-000.

Applicants: PJM Interconnection, L.L.C.

Description: OATT & OA re IMM Process Improvements to be effective 12/17/2012.

Filed Date: 10/16/12.

Accession Number: 20121016-5120.

Comments Due: 5 p.m. ET 11/6/12.

Docket Numbers: ER13-150-000.

Applicants: Northern Indiana Public Service Company, Midwest Independent Transmission System Operator, Inc.

Description: 10-16-12 NIPSCO Attachment O and GG to be effective 1/1/2013.

Filed Date: 10/16/12.

Accession Number: 20121016-5121.

Comments Due: 5 p.m. ET 11/6/12.

Take notice that the Commission received the following qualifying facility filings:

Docket Numbers: QF13-41-000.

Applicants: Recovered Energy Investors I, LLC.

Description: Form 556—Notice of Self-Certification for Qualifying Cogeneration Facility Status of Recovered Energy Investors I, LLC.

Filed Date: 10/16/12.

Accession Number: 20121016-5060.

Comments Due: None Applicable.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2012.
Nathaniel J. Davis, Sr.,
Deputy Secretary.

[FR Doc. 2012-26184 Filed 10-23-12; 8:45 am]

BILLING CODE 6717-01-P